DEPARTMENT OF ENERGY

Federal Energy Regulatory Commission

Combined Notice of Filings #2

Take notice that the Commission received the following electric rate filings:

Docket Numbers: ER17-964-000.

Applicants: Midcontinent Independent System Operator, Inc.

Description: § 205(d) Rate Filing: 2017-02-13_SA 2919 Cadillac Renewable Energy-MISO E-NRIS Agreement (J406) to be effective 2/14/2017.

Filed Date: 2/13/17.

Accession Number: 20170213-5192.

Comments Due: 5 p.m. ET 3/6/17.

Docket Numbers: ER17-965-000.

Applicants: PJM Interconnection, L.L.C.

Description: § 205(d) Rate Filing: Original ISA, Service Agreement No. 4623, Queue No. NQ145 to be effective 12/31/9998.

Filed Date: 2/13/17.

Accession Number: 20170213-5202.

Comments Due: 5 p.m. ET 3/6/17.

Docket Numbers: ER17-966-000.

Applicants: PacifiCorp.

Description: § 205(d) Rate Filing: International Paper Construction Agreement ? Kraft Sub to be effective 4/15/2017.

Filed Date: 2/13/17.

Accession Number: 20170213-5195.

Comments Due: 5 p.m. ET 3/6/17.

Docket Numbers: ER17-967-000.

Applicants: The Connecticut Light and Power Company.

Description: § 205(d) Rate Filing: Town of Wallingford Transmission Line Separation Agreement to be effective 2/13/2017.

Filed Date: 2/13/17.

Accession Number: 20170213-5189.

Comments Due: 5 p.m. ET 3/6/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 13, 2017.
Nathaniel J. Davis, Sr.,
Deputy Secretary.

[FR Doc. 2017-03208 Filed 2-16-17; 8:45 am]

BILLING CODE 6717-01-P